DEPARTMENT OF DEFENSE

Office of the Secretary

Senior Executive Service Performance Review Board

AGENCY: Department of Defense Office of Inspector General, Department of Defense (DoD).

ACTION: Notice.

SUMMARY: This notice announces the appointment of the members of the Senior Executive Service (SES) Performance Review Board (PRB) for the Department of Defense Office of Inspector General (DoD OIG), as required by 5 U.S.C. 4314(c)(4). The PRB provides fair and impartial review of SES performance appraisals and makes recommendations regarding performance ratings and performance awards to the Inspector General.

DATES: Effective Date: October 1, 2011.

FOR FURTHER INFORMATION CONTACT: Ms. Phyllis Hughes, Director, Human Capital Advisory Services, Administration and Management, DoD OIG, 400 Army Navy Drive, Arlington, VA 22202, (703) 602-4516.

SUPPLEMENTARY INFORMATION: In accordance with 5 U.S.C. 4314(c)(4), the following executives are appointed to the DoD OIG, PRB:

Kathy Buller Deputy Inspector General, (Foreign Service) Peace Corps

Asa E. Cunningham Assistant Inspector General for Inspections and Special Investigations, Department of Labor

Richard K. Delmar Counsel to the Inspector General, Department of the Treasury

Maria A. Freedman Assistant Inspector General for Audit, Department of the Treasury

Glenn P. Harris Counsel to the Inspector General, Small Business Administration

Elizabeth Martin General Counsel, United States Postal Service

Mary Mitchelson Deputy Inspector General, Department of Education

Daniel J. O'Rourke Assistant Inspector General for Investigations, Small Business Administration

Keith West Assistant Inspector General for Audit Services, Department of Education

Dated: September 28, 2011.
Aaron Siegel,
Alternate OSD Federal Register Liaison Officer, Department of Defense.

[FR Doc. 2011-25457 Filed 10-3-11; 8:45 am]

BILLING CODE 5001-06-P